DEPARTMENT OF HEALTH AND HUMAN SERVICES

National Institutes of Health

Prospective Grant of Exclusive License: Autotaxin: Motility Stimulating Protein Useful in Cancer Diagnosis and Therapy

AGENCY: National Institutes of Health, Public Health Service, DHHS.

ACTION: Notice.

SUMMARY: This is notice, in accordance with 35 U.S.C. 209(c)(1) and 37 CFR 404.7 (a)(1)(i), that the National Institutes of Health, Department of Health and Human Services, is contemplating the grant of an exclusive license to practice the inventions embodied in U.S. Patent Application S/N 07/822,043 entitled, “Autotaxin: Motility Stimulating Protein Useful in Cancer Diagnosis” filed on January 1, 1992 and now U.S. Patent 5,449,753 which issued on September 12, 1995; U.S. Patent Application S/N 08/346,455 entitled, “Autotaxin: Motility Stimulating Protein Useful in Cancer Diagnosis and Therapy” filed on November 11, 1994 and now U.S. Patent 5,731,167 which issued on March 24, 1998; U.S. Patent Application S/N 08/977,221 entitled, “Autotaxin: Motility Stimulating Protein Useful in Cancer Diagnosis and Therapy” which was filed on November 24, 1997; and a U.S. Patent Application, NIH designation E-142-90/4, which is a continuing application based on U.S. Patent Application S/N 08/977,221, entitled, “Autotaxin: Motility Stimulating Protein Useful in Cancer Diagnosis and Therapy” to ZymoGenetics, Inc. of Seattle, Washington. The patent rights in these inventions have been assigned to the United States of America.

The prospective exclusive license territory will be worldwide and the field of use may be limited to human therapeutics for the treatment of Type II diabetes and obesity.

DATES: Only written comments and/or license applications which are received by the National Institutes of Health on or before April 17, 2000 will be considered.

ADDRESSES: Requests for copies of the patent, inquiries, comments and other materials relating to the contemplated exclusive license should be directed to: Richard U. Rodriguez, Technology Licensing Specialist, Office of Technology Transfer, National Institutes of Health, 6011 Executive Boulevard, Suite 325, Rockville, MD 20852-3804. Telephone: (301) 496-7056, X287; Facsimile (301) 402-0220; E-mail rr154z@nih.gov.

SUPPLEMENTARY INFORMATION: U.S. Patent 5,449,753 claims various polypeptide sequences corresponding to human autotaxin as well as an autotaxin antibody which is suitable for immunohistochemistry. U.S. Patent 5,731,167 claims DNA segments encoding various polypeptide sequences corresponding to human autotaxin having immunogenic or biological activities; a recombinant DNA molecule comprising a vector and the DNA expressing autotaxin; and methods of producing and isolating recombinant autotaxin. U.S. Patent Application 08/977,221 and the continuation application based on it, have claims to various polypeptides corresponding to human autotaxin and relevant DNA sequences and vector claims for expressing, producing and isolating human autotaxin.

The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: February 8, 2000.
Jack Spiegel,
Director, Division of Technology Development and Transfer, Office of Technology Transfer.

[FR Doc. 00-3775 Filed 2-16-00; 8:45 am]

BILLING CODE 4140-01-P